DEPARTMENT OF HEALTH AND HUMAN SERVICES

National Institutes of Health

National Cancer Institute; Amended Notice of Meeting

Notice is hereby given of a change in the meeting of the Subcommittee I—Transition to Independence, June 14, 2016, 08:00 a.m. to June 15, 2016, 05:00 p.m., Hyatt Regency Bethesda, One Bethesda Metro Center, 7400 Wisconsin Avenue, Bethesda, MD 20814 which was published in the Federal Register on April 07, 2016, 81 FR 20406.

The meeting notice is amended to change the location of the meeting to DoubleTree Hotel Bethesda, 8120 Wisconsin Avenue, Bethesda, MD 20814. The meeting is closed to the public.

Dated: May 2, 2016.
Melanie J. Gray,
Program Analyst, Office of Federal Advisory Committee Policy.

[FR Doc. 2016-10598 Filed 5-5-16; 8:45 am]

BILLING CODE 4140-01-P